DEPARTMENT OF HEALTH AND HUMAN SERVICES

Food and Drug Administration

[Docket No. 00F-0813]

Tritex Co., Inc.; Filing of Food Additive Petition

AGENCY: Food and Drug Administration, HHS.

ACTION: Notice.

SUMMARY: The Food and Drug Administration (FDA) is announcing that Tritex Co., Inc., has filed a petition proposing that the food additive regulations be amended to provide for the safe use of sodium xylene sulfonated as a component of paper and paperboard intended to contact food.

FOR FURTHER INFORMATION CONTACT: Mark Hepp, Center for Food Safety and Applied Nutrition (HFS-215), Food and Drug Administration, 200 C St. SW., Washington, DC 20204, 202-418-3098.

SUPPLEMENTARY INFORMATION: Under the Federal Food, Drug, and Cosmetic Act (sec. 409(b)(5) (21 U.S.C. 348(b)(5))), notice is given that a food additive petition (FAP 0B4719) has been filed by Tritex Co., Inc., 1001 Boul. Industriel, Saint-Eustache (Quebec), CANADA J7H 6C3. The petition proposes to amend the food additive regulations in § 176.170 Components of paper and paperboard in contact with aqueous and fatty foods (21 CFR 176.170) to provide for the safe use of sodium xylene sulfonated as a component of paper and paperboard intended to contact food.

The agency has determined under 21 CFR 25.32(i) that this action is of a type that does not individually or cumulatively have a significant effect on the human environment. Therefore, neither an environmental assessment nor an environmental impact statement is required.

Dated: February 22, 2000.
Alan M. Rulis,
Director, Office of Premarket Approval, Center for Food Safety and Applied Nutrition.

[FR Doc. 00-5419 Filed 3-6-00; 8:45 am]

BILLING CODE 4160-01-F